NUCLEAR WASTE TECHNICAL REVIEW BOARD

Board Meeting

The U.S. Nuclear Waste Technical Review Board will meet in Alexandria, Virginia, on November 19, 2019 to review information on DOE research and development activities related to drying, packaging, and dry storage of spent nuclear fuel.

Pursuant to its authority under section 5051 of Public Law 100-203, Nuclear Waste Policy Amendments Act (NWPAA) of 1987, the U.S. Nuclear Waste Technical Review Board will hold a public meeting in Alexandria, Virginia, on Tuesday, November 19, 2019, to review information on U.S. Department of Energy (DOE) research and development (R&D) activities related to drying, packaging, and dry storage of spent nuclear fuel (SNF), including aluminum-clad SNF. The Board is an independent federal agency established by Congress to conduct an ongoing technical and scientific evaluation of activities undertaken by DOE to manage and dispose of SNF and high-level radioactive waste (HLW).

The Board meeting will be held at the Embassy Suites Alexandria Hotel, 1900 Diagonal Road, Alexandria, VA 22314. The hotel telephone number is (703) 684-5900.

The meeting will begin at 8:00 a.m. and is scheduled to adjourn at 5:00 p.m. Speakers representing the DOE Office of Nuclear Energy, the DOE Office of Environmental Management, and the national laboratories will report on R&D projects related to the drying, packaging, and dry storage of SNF. Computer modeling of the thermal behavior of SNF casks and canisters also will be discussed. Information on the development of the DOE standardized canister for DOE-managed SNF and research on long-term dry storage of aluminum-clad SNF will be presented. Additionally, the Board will hear presentations from researchers in other countries, where the drying and dry-storage of aluminum-clad SNF is under examination. A detailed meeting agenda will be available on the Board's website at www.nwtrb.gov approximately one week before the meeting.

The meeting will be open to the public, and opportunities for public comment will be provided before the lunch break and again at the end of the meeting. Those wanting to speak are encouraged to sign the Public Comment Register at the check-in table near the entrance to the meeting room. Speakers will be taken in the order in which they signed in and depending on the number a time limit on individual remarks may be set. However, written comments of any length may be submitted to the Board staff or by mail or electronic mail. All comments received in writing will be included in the meeting record, which will be posted on the Board's website after the meeting. The workshop will be webcast, and the link to the webcast will be available on the Board's website (www.nwtrb.gov) a few days before the workshop. An archived version of the webcast will be available on the Board's website following the workshop. The transcript of the workshop will be available on the Board's website by January 20, 2020.

The Board was established in the Nuclear Waste Policy Amendments Act of 1987 as an independent federal agency in the Executive Branch to evaluate the technical and scientific validity of DOE activities related to the management and disposal of SNF and HLW and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Dan Ogg: ogg@nwtrb.gov or Bret Leslie: leslie@nwtrb.gov. For information on logistics, or to request copies of the workshop agenda or transcript, contact Sonya Townsend: townsend@nwtrb.gov. All three may be reached by mail at 2300 Clarendon Boulevard, Suite 1300, Arlington, VA 22201-3367; by telephone at 703-235-4473; or by fax at 703-235-4495.

Dated: October 18, 2019.
Nigel Mote,
Executive Director, U.S. Nuclear Waste Technical Review Board.

[FR Doc. 2019-23180 Filed 10-23-19; 8:45 am]

BILLING CODE 6820-AM-P